DEPARTMENT OF TRANSPORTATION

Federal Aviation Administration

Public Notice of Intent To Rule on a Release Request To Sell On-Airport Property Purchased With Airport Improvement Program (AIP) Funding and Remove It From Airport Dedicated Use at the Lehigh Valley International Airport (ABE), Allentown, PA

AGENCY: Federal Aviation Administration (FAA) DOT.

ACTION: Notice of release request to sell on-airport property purchased with AIP funding and remove it from dedicated use.

SUMMARY: The FAA is requesting public comment on the Lehigh-Northampton Airport Authority proposed land release and sale of 32.566 acres of on airport property at the Lehigh Valley International Airport in Hanover Township, Pennsylvania. The subject property was purchased with federal financial assistance under the Airport Improvement Program.

FAA grants affecting the parcels to be released are identified below.

1. Grant No. 3-42-0001-074-2008

2. Grant No. 3-42-0001-067-2006

3. Grant No. 3-42-0001-074-2008

4. Grant No. 3-42-0001-035-1998

5. Grant No. 3-42-0001-067-2006

6. Grant No. 3-42-0001-029-1996

7. Grant No. 3-42-0001-029-1996

8. Grant No. 3-42-0001-062-2005

DATES: Comments must be received on or before November 6, 2020.

ADDRESSES: Comments on this application may be emailed or delivered to the following address:

Thomas Stoudt, Manager, Lehigh Valley International Airport, 3311 Airport Road, Allentown, PA 18109, 610-266-6001

and at the FAA Harrisburg Airports District Office:

Rick Harner, Manager, Harrisburg Airports District Office, 3905 Hartzdale Dr., Suite 508, Camp Hill, PA 17011, (717) 730-2830

FOR FURTHER INFORMATION CONTACT: Brian Gearhart, Project Manager, Harrisburg Airports District Office, location listed above.

The request to release airport property may be reviewed in person at this same location.

SUPPLEMENTARY INFORMATION:

The following is a brief overview of the request:

The Lehigh-Northampton Airport Authority requests the release of a total of 32.566 acres of land previously required for future development that is no longer needed. Of the total 32.566 acres, 5.705 acres are identified as Parcel V; 9.302 acres are from the 26.807-acre parcel known as N-2; 9.745 acres are from the 19.238-acre parcel known as K-3; 3.654 acres are from the 22.588-acre parcel known as K-4; and 4.169 acres are from the 63.731-acre Parcel X-2. The parcels were identified on the Airport Property Map—Exhibit A accepted July 15, 2015. The 32.566 acres is proposed for sale to The Rockefeller Group Development Corporation (Rockefeller Group), 500 International Drive North, Suite 345, Mt. Olive, NJ 07828. As shown on the Airport Layout Plan, the property is not needed now or in the future for airport development. The Federal share of the proceeds of the sale will be distributed towards approved AIP eligible efforts, with the remaining proceeds to be utilized to operate the airport.

Any person may inspect the request by appointment at the FAA office address listed above.

Interested persons are invited to comment on the proposed release. All comments will be considered by the FAA to the extent practicable.

Issued in Camp Hill, Pennsylvania, September 28, 2020.
Rick Harner,
Manager, Harrisburg Airports District Office.

[FR Doc. 2020-22101 Filed 10-6-20; 8:45 am]

BILLING CODE 4910-13-P